ENVIRONMENTAL PROTECTION AGENCY

40 CFR Part 52

[EPA-R10-OAR-2017-0193; FRL-9963-61-Region 10]

Attainment Date Extensions for the Logan, Utah-Idaho 24-Hour Fine Particulate Matter Nonattainment Area

AGENCY: Environmental Protection Agency (EPA).

ACTION: Proposed rule.

SUMMARY: The Environmental Protection Agency (EPA) is proposing to grant two, one-year extensions to the Moderate attainment date for the 2006 24-hour fine particulate matter (PM2.5) Logan, Utah (UT)-Idaho (ID) nonattainment area. This action is based on the EPA's evaluation of air quality monitoring data and extension requests submitted by the State of Utah on May 2, 2017, and the State of Idaho on December 15, 2015, February 26, 2016, and April 25, 2017. The EPA is proposing to grant a one-year extension of the Moderate attainment date from December 31, 2015 to December 31, 2016, and is proposing to grant a second one-year extension of the Moderate attainment date from December 31, 2016 to December 31, 2017, in accordance with section 188(d) of the Clean Air Act (CAA).

DATES: Written comments must be received on or before July 10, 2017.

ADDRESSES: Submit your comments, identified by Docket ID No. EPA-R10-OAR-2017-0193 at https://www.regulations.gov. Follow the online instructions for submitting comments. Once submitted, comments cannot be edited or removed from Regulations.gov. The EPA may publish any comment received to the public docket. Do not submit electronically any information you consider to be Confidential Business Information (CBI) or other information, the disclosure of which is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Jeff Hunt, Air Planning Unit, Office of Air and Waste (OAW-150), Environmental Protection Agency, Region 10, 1200 Sixth Ave., Suite 900, Seattle, WA 98101; telephone number: (206) 553-0256; email address: hunt.jeff@epa.gov.

SUPPLEMENTARY INFORMATION:

I. Background

We have provided a full explanation of this proposed action in a companion proposal for the Utah portion of the Logan, UT-ID nonattainment area under docket number EPA-R08-OAR-2017-0216. Specifically, in section II. Background and III. Basis for EPA's Proposed Action, we provide an explanation of the CAA requirements, a detailed analysis of the air quality monitoring data, and the EPA's reasons for proposing to grant two, one-year extensions to the Moderate attainment date for the Logan, UT-ID nonattainment area as a whole. That background and analysis applies equally to both the Utah and Idaho portions of the Logan, UT-ID nonattainment area, so the information in the companion proposal is incorporated by reference into this proposal and will not be restated here.

II. Proposed Action

In response to requests from the Governor of Utah on May 2, 2017, and from the Idaho Department of Environmental Quality (IDEQ) on December 15, 2015, February 26, 2016, and April 25, 2017, the EPA is proposing to grant two, one-year attainment date extensions to the Moderate attainment date for the 2006 24-hour PM2.5 National Ambient Air Quality Standards (NAAQS) for the Logan, UT-ID nonattainment area. If finalized, this action would extend the Moderate area attainment date for the Logan, UT-ID nonattainment area from December 31, 2015 to December 31, 2016, and from December 31, 2016 to December 31, 2017. The proposed action to extend the Moderate attainment date for this nonattainment area is based on both states' compliance with the requirements for the applicable State Implementation Plan (SIP) for the area and on the 2015 and 2016 PM2.5 98th percentile data from the Logan (Utah), Smithfield (Utah), and Franklin (Idaho) monitoring sites in the Logan, UT-ID nonattainment area. If we finalize this proposal, consistent with CAA section 188(d) and 40 CFR 51.1005(a)(1), the nonattainment area will remain a Moderate PM2.5 nonattainment area, with a Moderate area attainment date of December 31, 2017. Additionally, the states will not have to submit the additional planning requirements that apply to Serious PM2.5 nonattainment areas unless the area fails to attain the standard by the extended Moderate area attainment date and the area is reclassified to a Serious PM2.5 nonattainment area. Consistent with CAA section 188(b)(2), the EPA will determine whether the area attained the standard within six months following the applicable attainment date.

This action is not a redesignation to attainment under CAA section 107(d)(3)(E). Utah and Idaho are not currently attaining the NAAQS and have not submitted maintenance plans as required under section 175(A) of the CAA or met the other statutory requirements for redesignation to attainment. The designation status in 40 CFR part 81 will remain a Moderate nonattainment area until such time as Utah and Idaho meet the CAA requirements for redesignation to attainment or the area is reclassified to Serious.

III. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and therefore is not subject to review by the Office of Management and Budget (OMB). This proposed action merely approves a state request as meeting federal requirements and imposes no new requirements.

B. Paperwork Reduction Act (PRA)

This action does not impose any additional information collection burden under the provisions of the PRA, 44 U.S.C. 3501 et seq. This action merely approves a state request for an attainment date extension, and this action does not impose additional requirements beyond those imposed by state law.

C. Regulatory Flexibility Act (RFA)

I certify that this action will not have a significant economic impact on a substantial number of small entities under the RFA. This action will not impose any requirements on small entities beyond those imposed by state law. Approval of a state's request for an attainment date extension does not create any new requirements and does not directly regulate any entities.

D. Unfunded Mandates Reform Act (UMRA)

This action does not contain any unfunded mandate as described in UMRA, 2 U.S.C. 1531-1538, and does not significantly or uniquely affect small governments. This action does not impose additional requirements beyond those imposed by state law. Accordingly, no additional costs to State, local, or tribal governments, or to the private sector, will result from this action.

E. Executive Order 13132: Federalism

This action does not have federalism implications. It will not have substantial direct effects on the states, on the relationship between the national government and the states, or on the distribution of power and responsibilities among the various levels of government. Pursuant to the CAA, this action merely approves a state request for an attainment date extension.

F. Executive Order 13175: Coordination With Indian Tribal Governments

This action does not have tribal implications, as specified in Executive Order 13175. No tribal areas are located in the nonattainment area that will be receiving an attainment date extension. The CAA and the Tribal Authority Rule establish the relationship of the federal government and tribes in developing plans to attain the NAAQS, and this rule does nothing to modify that relationship. Thus, Executive Order 13175 does not apply to this action.

G. Executive Order 13045: Protection of Children From Environmental Health Risks and Safety Risks

This action is not subject to Executive Order 13045 because it is not economically significant as defined in Executive Order 12866, and because the EPA does not believe any environmental health or safety risks addressed by this action present a disproportionate risk to children. This action merely approves a state request for an attainment date extension and it does not impose additional requirements beyond those imposed by state law.

H. Executive Order 13211: Actions That Significantly Affect Energy Supply, Distribution, or Use

This action is not subject to Executive Order 13211, because it is not a significant regulatory action under Executive Order 12866.

I. National Technology Transfer and Advancement Act (NTTAA)

This rulemaking does not involve technical standards. This action merely approves a state request for an attainment date extension.

J. Executive Order 12898: Federal Actions To Address Environmental Justice in Minority Populations and Low-Income Population

The EPA believes that this action does not have disproportionately high and adverse human health or environmental effects on minority populations, low-income populations and/or indigenous peoples, as specified in Executive Order 12898 (59 FR 7629, February 16, 1994). This action approves a state request for an attainment date extension based on the state's compliance with requirements and commitments in its plan and recent air quality monitoring data that meets requirements for an extension.

List of Subjects in 40 CFR Part 52

Environmental protection, Air pollution control, Ammonia, Incorporation by reference, Intergovernmental relations, Nitrogen dioxide, Particulate matter, Reporting and recordkeeping requirements, Sulfur dioxide, Volatile organic compounds.

Authority: 42 U.S.C. 7401 et seq.

Dated: June 1, 2017.
Michelle L. Pirzadeh,
Acting Regional Administrator, Region 10.

[FR Doc. 2017-11943 Filed 6-7-17; 8:45 am]

BILLING CODE 6560-50-P